DEPARTMENT OF ENERGY

Federal Energy Regulatory Commission

Combined Notice of Filings #1

Take notice that the Commission received the following Complaints and Compliance filings in EL Dockets:

Docket Numbers: EL23-23-000.

Applicants: Coalition of Eastside Neighborhoods for Sensible Energy (CENSE) v. Puget Sound Energy.

Description: Complaint of Coalition of Eastside Neighborhoods for Sensible Energy (CENSE).

Filed Date: 1/17/23.

Accession Number: 20230117-5123.

Comment Date: 5 p.m. ET 2/6/23.

Take notice that the Commission received the following electric rate filings:

Docket Numbers: ER23-244-001; ER23-245-001; ER23-247-001; ER23-248-001; ER23-249-001; ER23-250-001; ER23-251-001; ER23-252-001.

Applicants: PA Solar Park II, LLC, Pilesgrove Solar, LLC, PA Solar Park, LLC, Lakehurst Solar, L.L.C., Frenchtown III Solar, LLC, Frenchtown II Solar, LLC, Frenchtown I Solar, LLC, Flemington Solar, LLC.

Description: Response to January 4, 2023, Deficiency Order Requesting Additional Information.

Filed Date: 1/17/23.

Accession Number: 20230117-5320.

Comment Date: 5 p.m. ET 2/7/23.

Docket Numbers: ER23-483-001.

Applicants: PJM Interconnection, L.L.C.

Description: Tariff Amendment: Request to Defer Action—Amendment to ISA No. 5071; Queue No. AB1-132 to be effective 12/31/9998.

Filed Date: 1/18/23.

Accession Number: 20230118-5062.

Comment Date: 5 p.m. ET 2/8/23.

Docket Numbers: ER23-690-001.

Applicants: ISO New England Inc.

Description: ISO NE submits an Errata to the December 21, 2022, Informational Filing for Forward Capacity Auction 17.

Filed Date: 1/12/23.

Accession Number: 20230112-5161.

Comment Date: 5 p.m. ET 1/20/23.

Docket Numbers: ER23-865-000.

Applicants: Midcontinent Independent System Operator, Inc.

Description: § 205(d) Rate Filing: 2023-01-17_SA 3236 Termination of Hartburg-Sabine SDA to be effective 11/9/2022.

Filed Date: 1/17/23.

Accession Number: 20230117-5237.

Comment Date: 5 p.m. ET 2/7/23.

Docket Numbers: ER23-866-000.

Applicants: PJM Interconnection, L.L.C.

Description: § 205(d) Rate Filing: First Revised ISA, Service Agreement No. 2969; Queue No. AC2-044/AE1-102 to be effective 12/15/2022.

Filed Date: 1/17/23.

Accession Number: 20230117-5240.

Comment Date: 5 p.m. ET 2/7/23.

Docket Numbers: ER23-867-000.

Applicants: Innisfree Storage LLC.

Description: Innisfree Storage LLC submits a Petition for Limited, Prospective Tariff Waiver with Expedited Action of the Requirement in Section 25.6.2.3.1 of Attachment S of the NYISO OATT.

Filed Date: 1/13/23.

Accession Number: 20230113-5362.

Comment Date: 5 p.m. ET 1/20/23.

Docket Numbers: ER23-868-000.

Applicants: PEI Power LLC.

Description: § 205(d) Rate Filing: PEI Power—Notice of Succession and MBR Change in Category Filing to be effective 1/19/2023.

Filed Date: 1/18/23.

Accession Number: 20230118-5002.

Comment Date: 5 p.m. ET 2/8/23.

Docket Numbers: ER23-869-000.

Applicants: Innovative Energy Systems, LLC.

Description: Compliance filing: Innovative Energy Systems MBR Change in Category to be effective 1/19/2023.

Filed Date: 1/18/23.

Accession Number: 20230118-5003.

Comment Date: 5 p.m. ET 2/8/23.

Docket Numbers: ER23-870-000.

Applicants: Seneca Energy, II LLC.

Description: Compliance filing: Seneca—MBR Change in Category Filing to be effective 1/19/2023.

Filed Date: 1/18/23.

Accession Number: 20230118-5004.

Comment Date: 5 p.m. ET 2/8/23.

Docket Numbers: ER23-871-000.

Applicants: PEI Power II, LLC.

Description: Compliance filing: PEI Power II—MBR Change in Category Filing to be effective 1/19/2023.

Filed Date: 1/18/23.

Accession Number: 20230118-5005.

Comment Date: 5 p.m. ET 2/8/23.

Docket Numbers: ER23-872-000.

Applicants: Emerald City Renewables LLC.

Description: Compliance filing: Emerald City—MBR Change in Category Filing to be effective 1/19/2023.

Filed Date: 1/18/23.

Accession Number: 20230118-5006.

Comment Date: 5 p.m. ET 2/8/23.

Docket Numbers: ER23-873-000.

Applicants: Ingenco Wholesale Power, L.L.C.

Description: Compliance filing: Ingenco—MBR Change in Category Filing to be effective 1/19/2023.

Filed Date: 1/18/23.

Accession Number: 20230118-5008.

Comment Date: 5 p.m. ET 2/8/23.

Docket Numbers: ER23-874-000.

Applicants: Collegiate Clean Energy, LLC.

Description: Compliance filing: Collegiate—MBR Change in Category Filing to be effective 1/19/2023.

Filed Date: 1/18/23.

Accession Number: 20230118-5009.

Comment Date: 5 p.m. ET 2/8/23.

Docket Numbers: ER23-875-000.

Applicants: PJM Interconnection, L.L.C.

Description: § 205(d) Rate Filing: Original WMPA, Service Agreement No. 6769; Queue No. AF1-254 to be effective 12/19/2022.

Filed Date: 1/18/23.

Accession Number: 20230118-5011.

Comment Date: 5 p.m. ET 2/8/23.

Docket Numbers: ER23-876-000.

Applicants: Midcontinent Independent System Operator, Inc., Ameren Transmission Company of Illinois.

Description: § 205(d) Rate Filing: Midcontinent Independent System Operator, Inc. submits tariff filing per 35.13(a)(2)(iii: 2023-01-18_SA 3916 Ameren-Lotus Wind 1st Rev E&P (J1289) to be effective 11/1/2022.

Filed Date: 1/18/23.

Accession Number: 20230118-5025.

Comment Date: 5 p.m. ET 2/8/23.

Docket Numbers: ER23-877-000.

Applicants: Southern California Edison Company.

Description: § 205(d) Rate Filing: LGIA Antelope Valley Complex Project SA No. 289 TOT777 & TOT793 to be effective 1/19/2023.

Filed Date: 1/18/23.

Accession Number: 20230118-5050.

Comment Date: 5 p.m. ET 2/8/23.

Docket Numbers: ER23-878-000.

Applicants: PJM Interconnection, L.L.C.

Description: § 205(d) Rate Filing: ISA, SA No. 6757; Queue No. AE2-175 to be effective 12/20/2022.

Filed Date: 1/18/23.

Accession Number: 20230118-5057.

Comment Date: 5 p.m. ET 2/8/23.

Docket Numbers: ER23-879-000.

Applicants: New England Power Company.

Description: § 205(d) Rate Filing: 2023-01-18 Filing of SGIA with Dichotomy Collins Hydro LLC to be effective 12/19/2023.

Filed Date: 1/18/23.

Accession Number: 20230118-5083.

Comment Date: 5 p.m. ET 2/8/23.

Docket Numbers: ER23-882-000.

Applicants: PJM Interconnection, L.L.C.

Description: § 205(d) Rate Filing: Amendment to ISA and ICSA, SA Nos. 5366 and 5367; Queue No. AB2-161 (amend) to be effective 4/16/2019.

Filed Date: 1/18/23.

Accession Number: 20230118-5099.

Comment Date: 5 p.m. ET 2/8/23.

Docket Numbers: ER23-883-000.

Applicants: Bell Ridge Solar, LLC.

Description: Baseline eTariff Filing: Bell Ridge Solar, LLC Application for Market-Based Rate Authority to be effective 1/25/2023.

Filed Date: 1/18/23.

Accession Number: 20230118-5100.

Comment Date: 5 p.m. ET 2/8/23.

Docket Numbers: ER23-884-000.

Applicants: Sonoran Solar Energy, LLC.

Description: Baseline eTariff Filing: Sonoran Solar Energy, LLC Application for Market-Based Rate Authorization to be effective 3/19/2023.

Filed Date: 1/18/23.

Accession Number: 20230118-5101.

Comment Date: 5 p.m. ET 2/8/23.

Docket Numbers: ER23-885-000.

Applicants: San Diego Gas & Electric Company.

Description: § 205(d) Rate Filing: Order No. 864 Section 205 Filing to be effective 1/27/2020.

Filed Date: 1/18/23.

Accession Number: 20230118-5102.

Comment Date: 5 p.m. ET 2/8/23.

Docket Numbers: ER23-886-000.

Applicants: PJM Interconnection, L.L.C.

Description: § 205(d) Rate Filing: Amendment to ISA, Service Agreement No. 5258; Queue No. AC1-085 to be effective 1/7/2019.

Filed Date: 1/18/23.

Accession Number: 20230118-5111.

Comment Date: 5 p.m. ET 2/8/23.

Docket Numbers: ER23-887-000.

Applicants: PJM Interconnection, L.L.C.

Description: § 205(d) Rate Filing: Amendment to IISA, Service Agreement No. 5885; Queue No. AF1-123/AF1-124/AF1-125 to be effective 1/4/2021.

Filed Date: 1/18/23.

Accession Number: 20230118-5126.

Comment Date: 5 p.m. ET 2/8/23.

Docket Numbers: ER23-888-000.

Applicants: New England Power Company.

Description: § 205(d) Rate Filing: 2023-01-18 Filing of SGIA with Dichotomy Collins Hydro LLC to be effective 12/19/2022.

Filed Date: 1/18/23.

Accession Number: 20230118-5128.

Comment Date: 5 p.m. ET 2/8/23.

Take notice that the Commission received the following electric securities filings:

Docket Numbers: ES23-28-000.

Applicants: System Energy Resources, Inc.

Description: Application Under Section 204 of the Federal Power Act for Authorization to Issue Securities of System Energy Resources, Inc.

Filed Date: 1/17/23.

Accession Number: 20230117-5296.

Comment Date: 5 p.m. ET 2/7/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2023.
Debbie-Anne A. Reese,
Deputy Secretary.

[FR Doc. 2023-01298 Filed 1-23-23; 8:45 am]

BILLING CODE 6717-01-P